DEPARTMENT OF THE INTERIOR

Bureau of Land Management

[OR-936-1430-ET; HAG-06-0013; WAOR-57965]

Public Land Order No. 7652; Withdrawal of Public Lands, San Juan Archipelago; Washington

AGENCY: Bureau of Land Management, Interior.

ACTION: Public Land Order.

SUMMARY: This order withdraws 276.41 acres of public lands from location and entry under the United States mining laws for a period of 20 years for the Bureau of Land Management to protect the unique natural, scenic, and recreational values and Federal improvements on 11 tracts of land in the San Juan Archipelago.

EFFECTIVE DATE: January 11, 2006.

ADDRESSES: Oregon/Washington State Office, BLM, P.O. Box 2965, Portland, Oregon 97208-2965.

FOR FURTHER INFORMATION CONTACT: William Schurger, BLM, Wenatchee Field Office, 509-665-2116, or Charles R. Roy, BLM, Oregon/Washington State Office, 503-808-6189.

SUPPLEMENTARY INFORMATION: The Bureau of Land Management will manage the lands to protect the unique natural, scenic, and recreational values and the investment of Federal funds on 11 tracts of public lands in the San Juan Archipelago. Complete legal descriptions for those tracts described by metes and bounds are available from the Bureau of Land Management office at the address above.

Order

By virtue of the authority vested in the Secretary of the Interior by Section 204 of the Federal Land Policy and Management Act of 1976, 43 U.S.C. 1714 (2000), it is ordered as follows:

1. Subject to valid existing rights, the following described public lands in the San Juan Archipelago are hereby withdrawn from location and entry under the United States mining laws, (30 U.S.C. Ch. 2 (2000)), for the Bureau of Land Management to protect the unique natural, scenic, and recreational values:

Willamette Meridian

Tract H (Lopez Island: NW Chadwick Hill and Wetland)

T. 34 N., R. 1 W.,

Sec. 17, metes and bounds parcel in the SE¼.

Tract I (Lopez Island: Chadwick Hill/Watmough Bay)

T. 34 N., R. 1 W.,

Sec. 21, lot 1 and NW¼NW¼.

Tract J (Lopez Island: Watmough Bay)

T. 34 N., R. 1 W.,

Sec. 21, metes and bounds parcel in lot 2 and SW¼NW¼.

Tract K (Lopez Island: Watmough Head and Watmough Bay)

T. 34 N., R. 1 W.,

Sec. 21, metes and bounds parcel in lot 2.

Tract L (Lopez Island: Cape St. Mary)

T. 34 N., R. 1 W.,

Sec. 15, lot 1.

Tract M (Lopez Island: Lopez Pass)

T. 35 N., R. 1 W.,

Sec. 33, lot 1.

Tract N (Eliza Island: south end)

T. 36 N., R. 2 E.,

Sec. 5, Eliza Island. (unsurveyed).

Tract O (Lummi Island: Carter Point)

T. 36 N., R. 2 E.,

Sec. 6, Lummi Island. (unsurveyed).

Tract P (Lummi Rocks)

T. 37 N., R. 1 E.,

Sec. 27, Lummi Rocks in the NW¼ and SW¼NE¼. (unsurveyed).

Tract Q (Chuckanut Rock)

T. 37 N., R. 2 E.,

Sec. 24, Chuckanut Rock. (unsurveyed).

Tract R (west end of Patos Island)

T. 38 N., R. 2 W.,

Sec. 17, most westerly 5 acres of Patos Island as described by metes and bounds.

The areas described aggregate 276.41 acres in San Juan and Whatcom Counties.

2. This withdrawal will expire 20 years from the effective date of this order unless, as a result of a review conducted before the expiration date pursuant to Section 204(f) of the Federal Land Policy and Management Act of 1976, 43 U.S.C. 1714(f) (2000), the Secretary determines that the withdrawal shall be extended.

Dated: December 15, 2005.
Craig Manson,
Assistant Secretary of the Interior.

[FR Doc. E6-155 Filed 1-10-06; 8:45 am]

BILLING CODE 4310-33-P